DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230/115 kV transmission line in Gwinnett and Hall Counties, Georgia.

FOR FURTHER INFORMATION CONTACT: Bob Quigel, Environmental Protection Specialist, Engineering and Environmental Staff, RUS, Stop 1571, 1400 Independence Avenue, SW., Washington, DC 20250-1571, telephone (202) 720-0468, fax (202) 720-0820, e-mail at bquigel@rus.usda.gov.

SUPPLEMENTARY INFORMATION: Georgia Transmission Corporation proposes to construct a 230 kV electric transmission line from the Spout Springs Road Substation to be located in Hall County 2000 feet East of the intersection of Williams Road and Spout Springs Road, and traverse southwest paralleling an existing Georgia Power Company 500 kV transmission line for approximately 4 miles. Approximately ½ mile of this line will deviate from the existing right-of-way to minimize impacts to local residences. The right-of-way for this portion of the transmission line will be widened 100 feet. At about ½ mile southwest of Hamilton Mill Road in Gwinnett County the transmission line will turn to the northwest on an existing Georgia Power Company 115 kV transmission line right-of-way for approximately 5 miles. The existing 115 kV transmission line will be reconstructed as an underbuild of the 230 kV transmission line. (The 230 kV and 115 kV transmission lines would share the same transmission line support structures.) The existing right-of-way will not need to be widened. The transmission line would then turn to the southwest on a new right-of-way along Peachtree Industrial Boulevard for approximately 1.6 miles to the Shoal Creek Substation to be located in Gwinnett County southwest of the intersection of Tuggle Greer Road and Peachtree Industrial Boulevard. (Georgia Power Company will construct the Shoal Creek Substation.) The new right-of-way will be forty (40) feet in width. This portion of the transmission line will also be underbuilt with a 115 kV transmission line. Both the 230 kV and the 115 kV transmission lines will connect to the Shoal Creek Substation. The portion of the 230 kV transmission line to parallel the 500 kV transmission line will be supported by single pole concrete structures. The 230 kV portion of the transmission line to be underbuilt with the 115 kV transmission line will be supported by single pole steel or concrete structures. It is anticipated that the transmission lines will be completed and energized by May 2003.

Copies of the FONSI are available for review at, or can be obtained from, RUS at the address provided herein or from Ms. Wende Martin, Georgia Transmission Corporation, 2100 East Exchange Place, Tucker, Georgia 30085-2088, telephone (770) 270-7591. Ms. Martin's e-mail address is wende.martin@gatrans.com.

Dated: March 5, 2002.
Blaine D. Stockton,
Assistant Administrator, Electric Program, Rural Utilities Service.

[FR Doc. 02-5734 Filed 3-8-02; 8:45 am]

BILLING CODE 3410-15-P